DEPARTMENT OF COMMERCE

International Trade Administration

[C-507-601]

Certain In-shell Roasted Pistachios from the Islamic Republic of Iran: Notice of Initiation of Countervailing Duty New Shipper Review

AGENCY: Import Administration, International Trade Administration, Department of Commerce.

EFFECTIVE DATE: June 1, 2007.

SUMMARY: The Department of Commerce (“the Department”) has received a request to conduct a new shipper review of the countervailing duty (“CVD”) order on certain in-shell roasted pistachios from the Islamic Republic of Iran (“pistachios from Iran”). In accordance with section 751(a)(2)(B) of the Tariff Act of 1930, as amended (“the Act”), and 19 CFR 351.214(d), we are initiating a CVD new shipper review for Ahmadi's Agricultrual Productions, Processing, and Trade Complex (“Ahmadi”).

FOR FURTHER INFORMATION CONTACT: Christopher Hargett, AD/CVD Operations, Office 3, Import Administration, International Trade Administration, U.S. Department of Commerce, 14th Street and Constitution Avenue, NW, Washington, DC 20230; telephone: (202) 482-4161.

SUPPLEMENTARY INFORMATION:

Background

On March 21, 2007, the Department received a timely request from Ahmadi, in accordance with 19 CFR 351.214(c), for a new shipper review of the CVD order on pistachios from Iran, which has an October anniversary month.¹

¹ See Final Affirmative Countervailing Duty Determination and Countervailing Duty Order; Roasted In-Shell Pistachios From Iran, 51 FR 35679 (October 7, 1986).

As required by 19 CFR 351.214(b)(2)(i) and (iii)(A), Ahmadi certified that it did not export subject merchandise to the United States during the period of investigation (“POI”), and that it has never been affiliated with any exporter or producer that exported subject merchandise during the POI.² Pursuant to 19 CFR 351.214(b)(2)(iv), the company submitted documentation establishing the date on which it first shipped the subject merchandise to the United States, the date of entry and volume of that first shipment, and the date of the first sale to an unaffiliated customer in the United States. Ahmadi also certified that, in accordance with 19 CFR 351.214(b)(2)(v), it has informed the Government of the Islamic Republic of Iran that it will be required to provide a full response to the Department's questionnaire.³ On April 30, 2007, and on May 23, 2007, the Western Pistachio Association and Cal Pure Pistachios, Inc., respectively, submitted letters in opposition to the request urging the Department to decline to initiate the requested review.⁴

² See the March 21, 2007, submission to the Department from Ali R. Ahmadi Kerman Corporation regarding Request for New Shipper CVD Review.

³ Id.

⁴ See the April 30, 2007, letter to the Department from the Western Pistachio Association in Opposition to Ahmadi's Agricultural Productions, Processing and Trade Complex's Request to Initiate a New Shipper Review of the Countervailing Duty Order on Roasted In-Shell Pistachios from Iran, see also the May 23, 2007, letter to the Department from Cal Pure Pistachios Inc., in Opposition to Initiation of New Shipper Review Request.

Initiation of Review

In accordance with section 751(a)(2)(B) of the Act and 19 CFR 351.214 (d), and based on information on the record, we are initiating a CVD new shipper review for Ahmadi. Consistent with section 751(a)(2)(B)(iv) of the Act, we intend to issue the preliminary results of this new shipper review no later than 180 days after initiation of this review ⁵ and the final results of this review no later than 90 days after the date on which the preliminary results are issued.⁶

⁵ See 19 CFR 351.214(i).

⁶ Id.

New Shipper Review Proceeding | Period To Be Reviewed
Ahmadi | 01/01/2006 - 12/31/2006

Cash Deposit Requirements

On August 17, 2006, the Pension Protection Act of 2006 (H.R. 4) was signed into law. Section 1632 of H.R. 4 temporarily suspends the authority of the Department to instruct U.S. Customs and Border Protection to collect a bond or other security in lieu of a cash deposit in new shipper reviews during the period April 1, 2006, through June 30, 2009. Therefore, the posting of a bond or other security under section 751(a)(2)(B)(iii) of the Act in lieu of a cash deposit is not available in this case. Importers of subject merchandise manufactured and exported by Ahmadi must continue to pay a cash deposit of estimated antidumping duties on each entry of subject merchandise at the current all-others rate of 317.89%%.⁷

⁷ See Final Affirmative Countervailing Duty Determination and Countervailing Duty Order; Roasted In-Shell Pistachios From Iran, 51 FR 35679 (October 7, 1986).

Interested parties may submit applications for disclosure of business proprietary information under administrative protective order in accordance with 19 CFR 351.305 and 351.306.

This initiation and this notice are issued and published in accordance with section 751(a)(2)(B) of the Act of the Act and 19 CFR 351.214(d) and 351.221(c)(1)(i).

Dated: May 24, 2007.
Stephen J. Claeys,
Deputy Assistant Secretary for Import Administration.

[FR Doc. E7-10605 Filed 5-31-07; 8:45 am]

BILLING CODE 3510-DS-S